OFFICE OF PERSONNEL MANAGEMENT

Submission for OMB Review; Comment Request for Review of a Revised and Expiring Information Collection: OPM-1386B

AGENCY: Office of Personnel Management.

ACTION: Notice.

SUMMARY: In accordance with the Paperwork Reduction Act of 1995 (Pub. L. 104-13, May 22 1995), this notice announces that the Office of Personnel Management (OPM) has submitted to the Office of Management and Budget a request for review of a revised and expiring information collection. OPM-1386B, Applicant Race and National Origin Questionnaire, is used to gather information concerning the race and national origin of applicants for employment under the Outstanding Scholar provision of the Luevano Consent Decree, 93 F.R.D. 68 (1981).

During the sixty-day comment period, OPM did not receive any comments.

Approximately 100,000 OPM-1386B forms are completed annually. The 60-day Federal Register Notice reported an incorrect response time of 8 minutes. The correct estimated response time is 5 minutes with an annual public burden of 8,333 hours.

For copies of this proposal, contact Mary Beth Smith-Toomey at FAX 202-418-3251, or E-mail to mbtoomey@opm.gov. Please include a mailing address with your request.

DATES: Comments on this proposal should be received within 30 calendar days from the date of this publication.

ADDRESSES: Send or deliver comments to:

Suzy M. Barker, Director, Examining & Qualifications Policy Division, Employment Service, U.S. Office of Personnel Management, 1900 E Street, NW, Room 6500, Washington, DC 20415,

and

Stuart Shapiro, OPM Desk Officer, Office of Information and Regulatory Affairs, Office of Management and Budget, New Executive Office Building, NW, Room 10235, Washington, DC 20503.

Office of Personnel Management.
Kay Coles James,
Director.

[FR Doc. 02-19461 Filed 7-31-02; 8:45 am]

BILLING CODE 6325-38-P